DEPARTMENT OF COMMERCE

National Oceanic and Atmospheric Administration

[RTID 0648-XD456]

South Atlantic Fishery Management Council; Public Meetings

AGENCY: National Marine Fisheries Service (NMFS), National Oceanic and Atmospheric Administration (NOAA), Commerce.

ACTION: Notice of scoping meetings.

SUMMARY: The South Atlantic Fishery Management Council (Council) will hold a series of scoping meetings via webinar pertaining to Framework Amendment 13 to the Fishery Management Plan for Coastal Migratory Pelagic Resources in the Gulf of Mexico and Atlantic Region. The amendment addresses Atlantic migratory group Spanish mackerel catch levels.

DATES: The scoping meetings will be held via webinar on Monday, October 30, 2023, at 6 p.m. and Wednesday, November 1, 2023, at 6 p.m.

ADDRESSES: Council address: South Atlantic Fishery Management Council, 4055 Faber Place Drive, Suite 201, N Charleston, SC 29405.

FOR FURTHER INFORMATION CONTACT: Christina Wiegand, Fishery Social Scientist, SAFMC; phone: (843) 571-4366 or toll free: (866) SAFMC-10; fax: (843) 769-4520; email: christina.wiegand@safmc.net.

SUPPLEMENTARY INFORMATION: The scoping meetings will be conducted via webinar. Registration is required. The public scoping document, online public comment form, and webinar registration information will be posted on the Council's website at: https://safmc.net/public-hearings-and-scoping/ as it becomes available. Public comments must be received by 5 p.m. on November 10, 2023.

Framework Amendment 13 to the Coastal Migratory Pelagics FMP

The Council is considering action to address updated scientific information on the Atlantic Spanish mackerel stock provided through the Southeast Data, Assessment, and Review (SEDAR) 78 stock assessment (2022). The assessment, which included revised recreational landings based on the Marine Recreational Information Program's newer Fishing Effort Survey method, indicated that the Atlantic Spanish mackerel stock was not overfished nor undergoing overfishing. The amendment currently includes actions to update catch levels to be consistent with SEDAR 78 and the Council's Scientific and Statistical Committee recommendations.

During the scoping meetings, Council staff will present an overview of the draft framework amendment and will be available for informal discussions and to answer questions via webinar. Members of the public will have an opportunity to go on record to record their comments for consideration by the Council.

Special Accommodations

These meetings are physically accessible to people with disabilities. Requests for auxiliary aids should be directed to the Council office (see ADDRESSES) 3 days prior to the meeting.

Note: The times and sequence specified in this agenda are subject to change.

Authority: 16 U.S.C. 1801 et seq.

Dated: October 6, 2023.
Rey Israel Marquez,
Acting Deputy Director, Office of Sustainable Fisheries, National Marine Fisheries Service.

[FR Doc. 2023-22658 Filed 10-12-23; 8:45 am]

BILLING CODE 3510-22-P